FEDERAL DEPOSIT INSURANCE CORPORATION

Agency Information Collection Activities: Proposed Collection Renewal; Comment Request (OMB No. 3064-0072)

AGENCY: Federal Deposit Insurance Corporation (FDIC).

ACTION: Notice and request for comment.

SUMMARY: The FDIC, as part of its ongoing obligations under the Paperwork Reduction Act of 1995, invites the general public and other Federal agencies to take this opportunity to comment on the renewal of the existing information collection described below (OMB No. 3064-0072).

DATES: Comments must be submitted on or before October 15, 2018.

ADDRESSES: Interested parties are invited to submit written comments to the FDIC by any of the following methods:

• Agency Website: https://www.FDIC.gov/regulations/laws/federal.

• Email: comments@fdic.gov. Include the name and number of the collection in the subject line of the message.

• Mail: Jennifer Jones (202-898-6768), Counsel, MB-3105, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, Counsel, 202-898-6768, jennjones@fdic.gov, MB-3105, Federal Deposit Insurance Corporation, 550 17th Street NW, Washington, DC 20429.

SUPPLEMENTARY INFORMATION:

Proposal to renew the following currently approved collections of information:

1. Title: Acquisition Services Information Requirements.

OMB Number: 3064-0072.

Form Number: 3700/55 (Solicitation/Award); 1600/04 (Background Investigation Questionnaire for Contractor Personnel and Subcontractors); 1600/07 (Background Investigation Questionnaire for Contractors); 3700/12 (Integrity and Fitness Representations and Certifications); 3700/44 (Leasing Representations and Certifications); 3700/57 (Past Performance Questionnaire); 3700/04A (Contractor Representations and Certifications); and 3700/59 (Fair Inclusion of Minorities and Women).

Affected Public: Vendors of goods and services.

Burden Estimate:

Summary of Annual Burden
| Type of burden | Obligation to respond | Estimated number of respondents | Estimated frequency of responses | Estimated time per response | Frequency of response | Total annual estimated burden (hours)
Request for Proposal and Price Quotation (includes Basic Safeguards)—Solicitation/Award (Form 3700/55) | Reporting | Required to Obtain or Retain Benefits | 656 | 1 | 6.55 | On Occasion | 4,297
Request for Information | Reporting | Voluntary | 44 | 1 | 37.63 | On Occasion | 1,656
Background Investigation Questionnaire for Contractor Personnel and Subcontractors (Form 1600/04) | Reporting | Required to Obtain or Retain Benefits | 2,400 | 1 | 0.33 | On Occasion | 792
Background Investigation Questionnaire for Contractors (Form 1600/07) | Reporting | Required to Obtain or Retain Benefits | 200 | 1 | 0.5 | On Occasion | 100
Integrity and Fitness Representations and Certifications (Form 3700/12) | Reporting | Required to Obtain or Retain Benefits | 12 | 1 | 0.33 | On Occasion | 4
Leasing Representations and Certifications (Form 3700/44) | Reporting | Required to Obtain or Retain Benefits | 15 | 1 | 1 | On Occasion | 15
Past Performance Questionnaire (Form 3700/57) | Reporting | Required to Obtain or Retain Benefits | 984 | 1 | 0.75 | On Occasion | 738
Contractor Representations and Certifications (Form 3700/04A) | Reporting | Required to Obtain or Retain Benefits | 12 | 1 | 0.33 | On Occasion | 4
Fair Inclusion of Minorities and Women (Form 3700/59) | Reporting | Required to Obtain or Retain Benefits | 100 | 1 | 2 | On Occasion | 200
Total Hourly Burden |  |  |  |  |  |  | 7,806

General Description of Collection: This is a collection of information involving submission of information and various forms by contractors who desire to do business with the FDIC in connection with contract proposals submitted in response to FDIC solicitations.

In order to obtain competitive proposals and contracts from vendors interested in providing goods or services to the FDIC, the FDIC uses the Solicitation/Award request (Form 3700/55). This form is used in connection with a request for proposal and a request for price quotations.

In anticipation of a particular contract solicitation, the FDIC may first conduct market research to narrow down the list of potential contractors. This is done through a request for information (RFI). Following the RFI process, potential firms may be notified if they are to be included in the next phase of the acquisition process.

The FDIC Background Investigation Questionnaire for Contractor Personnel and Subcontractors (Form 1600/04), Background Investigation Questionnaire for Contractors (Form1600/07), Integrity and Fitness Representations and Certifications (Form 3700/12), and Leasing Representations and Certifications (Form 3700/44) are a result of the implementation of 12 CFR part 366. The FDIC adopted 12 CFR part 366 pursuant to Section 12(f)(3) and (4) of the Federal Deposit Insurance Act, 12 U.S.C. 1822(f)(3) and (4), and the rulemaking authority of the FDIC found at 12 U.S.C. 1819. Pursuant to those sections and consistent with the goals and purposes of titles 18 and 41 of the U.S. Code, the rule establishes the minimum standards of integrity and fitness that contractors, subcontractors, and employees of contractors and subcontractors must meet if they perform any service or function on behalf of the FDIC. This rule includes regulations governing conflicts of interest, ethical responsibility, and use of confidential information in accordance with 1822(f)(3); and the prohibitions and the submission of information in accordance with 1822(f)(4). This rule applies to a person who submits an offer to perform or performs, directly or indirectly, a contractual service or function on behalf of the FDIC.

In addition, the evaluation of an offeror's past performance under formal contracting procedures is a mandatory technical evaluation criterion in the FDIC's standard solicitation document. In support of the evaluation of the past performance criterion, the FDIC Past Performance Questionnaire (Form 3700/57) was developed to be submitted by other government agencies or commercial businesses who are doing business, or have done business, with the contractor that the FDIC is evaluating.

The FDIC Contractor Representations and Certifications form (Form 3700/4A) must be completed by any offeror that responds to a solicitation for an award over $100,000.

Finally, in connection with a contract proposal, the FDIC seeks a commitment from an FDIC contractor to ensure, to the maximum extent possible consistent with applicable law, the fair inclusion of minorities and women in its workforce and the workforces of its applicable subcontractors. The commitment is asserted by the FDIC Fair Inclusion of Minorities and Women form (Form 3700/59), which is a contract clause implementing Section 342(c)(2) of the Dodd-Frank Wall Street Reform and Consumer Protection Act (12 U.S.C. 5452). The clause asserts the FDIC's right to request documentation from the contractor that demonstrates the contractor's good faith effort to include minorities and women in its workforce and subcontractors' workforces.

The annual burden for this information collection is estimated to be 7,806 hours. This represents an increase of 5,472 hours from the current burden estimate of 2,334 hours. This increase is not due to any new requirements imposed by the FDIC. Rather, it is due to FDIC's reassessment of the burden hours associated with the contracting process and to better account for the burdens associated with requests for proposals and price quotations as well as RFIs.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Dated at Washington, DC, on August 13, 2018.
Federal Deposit Insurance Corporation.
Robert E. Feldman,
Executive Secretary.

[FR Doc. 2018-17647 Filed 8-15-18; 8:45 am]

BILLING CODE 6714-01-P